DEPARTMENT OF TRANSPORTATION

Federal Motor Carrier Safety Administration

[Docket No. FMCSA-2005-21711]

Qualification of Drivers; Exemption Applications; Vision

AGENCY: Federal Motor Carrier Safety Administration (FMCSA), DOT.

ACTION: Notice of applications for exemption from the vision standard; request for comments.

SUMMARY: This notice publishes the FMCSA's receipt of applications from 40 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before September 19, 2005.

ADDRESSES: You may submit comments identified by any of the following methods. Please identify your comments by the DOT DMS Docket Number FMCSA-2005-21711.

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

Instructions: All submissions must include the agency name and docket number for this notice. For detailed instructions on submitting comments and additional information on the rulemaking process, see the Public Participation heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Dr. Mary D. Gunnels, Office of Bus and Truck Standards and Operations, (202) 366-4001, FMCSA, Department of Transportation, 400 Seventh Street, SW., Washington, DC 20590-0001. Office hours are from 8 a.m. to 5 p.m., e.t., Monday through Friday, except Federal holidays.

SUPPLEMENTARY INFORMATION: Public Participation: The DMS is available 24 hours each day, 365 days each year. You can get electronic submission and retrieval help guidelines under the “help” section of the DMS Web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 40 individuals listed in this notice have recently requested an exemption from the vision requirement in 49 CFR 391.41(b)(10), which applies to drivers of CMVs in interstate commerce. Accordingly, the agency will evaluate the qualifications of each applicant to determine whether granting the exemption will achieve the required level of safety mandated by the statute.

Qualifications of Applicants

1. Roy L. Allen

Mr. Allen, age 34, has amblyopia in his left eye. His visual acuity in the right eye is 20/20 and in the left, 20/200. Following an examination in 2005, his optometrist noted, “This patient has sufficient vision to perform the driving tasks to operate a commercial vehicle with the above acuities.” Mr. Allen submitted that he has driven straight trucks for 6 years, accumulating 124,000 miles. He holds a Class C driver's license from Georgia. His driving record for the last 3 years shows no crashes or convictions for moving violations in a CMV.

2. Calvin D. Atwood

Mr. Atwood, 60, has a cataract in his right eye due to trauma at age 9. His best-corrected visual acuity in the right eye is light perception and in the left, 20/20. Following an examination in 2004, his optometrist certified, “I certify in my professional opinion Calvin Atwood has sufficient vision to perform the driving tasks required to operate a commercial vehicle.” Mr. Atwood submitted that he has driven straight trucks for 4 years, accumulating 87,000 miles, and tractor-trailer combinations for 7 years, accumulating 223,000 miles. He holds a Class A commercial driver's license (CDL) from New Mexico. His driving record for the last 3 years shows no crashes or convictions for moving violations in a CMV.

3. Gregory W. Babington

Mr. Babington, 26, has had a cataract in his right eye since birth. The visual acuity in his right eye is hand motions and in the left, 20/20. His ophthalmologist examined him in 2005 and noted, “It is my professional opinion that Greg has sufficient vision to perform the driving tasks required to operate a commercial vehicle.” Mr. Babington reported that he has driven straight trucks and tractor-trailer combinations for 3 years, accumulating 6,000 miles in the former and 225,000 in the latter. He holds a Class A CDL from Massachusetts. His driving record for the last 3 years shows no crashes or convictions for moving violations in a CMV.

4. Lennie D. Baker, Jr.

Mr. Baker, 26, has amblyopia in his right eye. The best-corrected visual acuity in his right eye is 20/400 and in the left, 20/20. His optometrist examined him in 2004 and certified, “In my medical opinion, you have sufficient vision to perform driving tasks for a commercial vehicle.” Mr. Baker reported that he has driven tractor-trailer combinations for 5 years, accumulating 60,000 miles. He holds a Class A CDL from North Carolina. His driving record for the last 3 years shows one crash and two convictions for moving violations in a CMV. He exceeded the speed limit by 14 mph in one instance and 15 mph in another instance. The crash occurred when, according to the police report, Mr. Baker rear-ended a vehicle that entered his lane. The other driver was cited; Mr. Baker was not cited.

5. John E. Breslin

Mr. Breslin, 39, has amblyopia in his left eye. His best-corrected visual acuity in the right eye is 20/20 and in the left, 20/120. Following an examination in 2004, his optometrist noted, “I feel that John presents adequate vision for operating a commercial vehicle safely.” Mr. Breslin submitted that he has driven straight trucks and tractor-trailer combinations for 19 years, accumulating 285,000 miles in the former and 1.1 million miles in the latter. He holds a Class A CDL from Nevada. His driving record for the last 3 years shows no crashes or convictions for moving violations in a CMV.

6. Arturo Cardozo

Mr. Cardozo, 38, has had a prosthesis in his left eye for 20 years due to injury. His visual acuity in the right eye is 20/20. Following an examination in 2005, his ophthalmologist noted, “In my opinion his vision is sufficient to operate a commercial vehicle, which his driving record will also confirm.” Mr. Cardozo submitted that he has driven straight trucks for 2 years, accumulating 27,000 miles, and tractor-trailer combinations for 7 years, accumulating 273,000 miles. He holds a Class A CDL from Texas. His driving record for the last 3 years shows no crashes or convictions for moving violations in a CMV.

7. William P. Doolittle

Mr. Doolittle, 46, has amblyopia in his right eye. The best-corrected visual acuity in his right eye is count fingers and in the left, 20/15. His optometrist examined him in 2005 and certified, “It is my opinion that Mr. Doolittle does have sufficient vision to perform the driving tasks required to operate a CMV.” Mr. Doolittle submitted that he has driven straight trucks and tractor-trailer combinations for 8 years, accumulating 576,000 miles in each. He holds a Class A CDL from Missouri. His driving record for the last 3 years shows no crashes or convictions for moving violations in a CMV.

8. Steve R. Felks

Mr. Felks, 46, has had decreased vision in his left eye of unknown etiology since birth. His visual acuity in the right eye is 20/20 and in the left, form perception. Following an examination in 2005, his optometrist noted, “In my medical opinion, he has sufficient vision to perform the driving tasks required to operate a commercial vehicle.” Mr. Felks submitted that he has driven straight trucks for 12 years, accumulating 804,000 miles. He holds a Class DM driver's license from Alabama. His driving record for the last 3 years shows no crashes or convictions for moving violations in a CMV.

9. William M. Gales, III

Mr. Gales, 49, has amblyopia in his left eye. The best-corrected visual acuity in his right eye is 20/20 and in the left, 20/80. His optometrist examined him in 2004 and noted, “In my opinion as an optometrist, Mr. Gales’ vision meets the requirement for operating a vehicle, commercial or otherwise, at this time.” Mr. Gales submitted that he has driven straight trucks for 18 years, accumulating 126,000 miles, and buses for 3 years, accumulating 7,000 miles. He holds a Class B CDL from Maryland. His driving record for the last 3 years shows no crashes or convictions for moving violations in a CMV.

10. Jonathan M. Gentry

Mr. Gentry, 32, has amblyopia in his right eye. His best-corrected visual acuity in the right eye is 20/100 and in the left, 20/20. Following an examination in 2005, his optometrist certified, “In my professional opinion, the patient's vision is sufficient to operate a commercial vehicle.” Mr. Gentry submitted that he has driven straight trucks for 7 years, accumulating 336,000 miles. He holds a Class D driver's license from Tennessee. His driving record for the last 3 years shows no crashes or convictions for moving violations in a CMV.

11. John N. Guilford

Mr. Guilford, 40, has macular scars in his left eye resulting from a childhood injury. His best-corrected visual acuity in the right eye is 20/25 and in the left, 20/400. Following an examination in 2004, his optometrist certified, “It is my medical opinion that Mr. Guilford's vision is stable and that he has sufficient vision to perform the driving tasks required to operate a commercial vehicle.” Mr. Guilford submitted that he has driven tractor-trailer combinations for 14 years, accumulating 1.1 million miles. He holds a Class AM CDL from Alabama. His driving record for the last 3 years shows no crashes or convictions for moving violations in a CMV.

12. Benny D. Hatton, Jr.

Mr. Hatton, 35, has had a macular scar in his right eye since childhood. The visual acuity in his right eye is 20/300 and in the left, 20/20. His ophthalmologist examined him in 2004 and certified, “In my opinion, Benny Hatton has sufficient vision to perform the driving tasks required to operate a commercial vehicle.” Mr. Hatton reported that he has driven straight trucks for 11 years, accumulating 550,000 miles. He holds a Class BM CDL from New York. His driving record for the last 3 years shows no crashes or convictions for moving violations in a CMV.

13. Robert W. Healey, Jr.

Mr. Healey, 50, has amblyopia in his right eye. The best-corrected visual acuity in his right eye is 20/400 and in the left, 20/20. His optometrist examined him in 2005 and stated, “In my opinion, he has sufficient vision to operate a commercial vehicle.” Mr. Healey reported that he has driven tractor-trailer combinations for 31 years, accumulating 2.3 million miles. He holds a Class A CDL from New Jersey. His driving record for the last 3 years shows no crashes or convictions for moving violations in a CMV.

14. Nathaniel H. Herbert, Jr.

Mr. Herbert, 49, has amblyopia in his right eye. His best-corrected visual acuity in the right eye is count fingers and in the left, 20/20. Following an examination in 2004, his ophthalmologist noted, “Based on his eye examination and his visual field testing, the patient, in my medical opinion, has sufficient vision to perform the driving tasks required to operate a commercial vehicle.” Mr. Herbert submitted that he has driven tractor-trailer combinations for 24 years, accumulating 3.0 million miles. He holds a Class A CDL from Pennsylvania. His driving record for the last 3 years shows no crashes or convictions for moving violations in a CMV.

15. Thomas D. Lambert

Mr. Lambert, 33, had his left eye surgically removed in 1994 due to trauma. His best-corrected visual acuity in the right eye is 20/20. Following an examination in 2005, his optometrist noted, “It is my medical opinion that this patient has sufficient vision to perform the driving tasks required to operate a commercial vehicle and I so certify.” Mr. Lambert submitted that he has driven straight trucks and tractor-trailer combinations for 12 years, accumulating 360,000 miles in the former and 480,000 miles in the latter. He holds a Class A CDL from Mississippi. His driving record for the last 3 years shows no crashes or convictions for moving violations in a CMV.

16. Thomas (Tom) W. Markham

Mr. Markham, 48, has amblyopia in his right eye. His best-corrected visual acuity in the right eye is 20/200 and in the left, 20/20. Following an examination in 2004, his optometrist noted, “Based on this examination, it is my medical opinion that Tom Markham has sufficient vision to perform the driving tasks required to operate a commercial vehicle.” Mr. Markham submitted that he has driven straight trucks for 5 years accumulating 250,000 miles, and tractor-trailer combinations for 20 years, accumulating 1.5 million miles. He holds a Class A CDL from Minnesota. His driving record for the last 3 years shows no crashes or convictions for moving violations in a CMV.

17. Eugene P. Martin

Mr. Martin, 45, has had a macular hole in his right eye for 20 years. The best-corrected visual acuity in his right eye is 20/200 and in the left, 20/20. His optometrist examined him in 2005 and noted, “Mr. Martin has sufficient vision to perform commercial driving tasks.” Mr. Martin reported that he has driven straight trucks for 25 years, accumulating 650,000 miles, and tractor-trailer combinations for one year, accumulating 18,000 miles. He holds a Class A CDL from New Hampshire. His driving record for the last 3 years shows no crashes or convictions for moving violations in a CMV.

18. Raul Martinez

Mr. Martinez, 48, had his right eye surgically removed 5 years ago due to a tumor. His best-corrected visual acuity in the left eye is 20/20. Following an examination in 2004, his optometrist noted, “In my opinion Mr. Martinez has sufficient vision to perform the driving tasks to operate a commercial vehicle.” Mr. Martinez submitted that he has driven straight trucks and tractor-trailer combinations for 20 years, accumulating 520,000 miles in the former and 500,000 miles in the latter. He holds a Class A CDL from Florida. His driving record for the last 3 years shows no crashes or convictions for moving violations in a CMV.

19. Joseph L. Mast

Mr. Mast, 53, lost the vision in his right eye due to trauma in 1973. The best-corrected visual acuity in his left eye is 20/15. His optometrist examined him in 2004 and stated, “His vision is adequate for safe operation of a commercial vehicle.” Mr. Mast reported that he has driven straight trucks for 15 years, accumulating 202,000 miles, tractor-trailer combinations for 17 years, accumulating 1.0 million miles, and buses for 3 years, accumulating 1,000 miles. He holds a Class A CDL from Oregon. His driving record for the last 3 years shows no crashes or convictions for moving violations in a CMV.

20. Randy G. McCloud

Mr. McCloud, 50, has amblyopia in his left eye. The best-corrected visual acuity in his right eye is 20/20 and in the left, 20/70. His optometrist examined him in 2005 and stated, “In my professional experience, I believe that he has sufficient vision to perform the driving tasks required to operate a commercial vehicle.” Mr. McCloud submitted that he has driven straight trucks for 10 years, accumulating 260,000 miles. He holds a Class D driver's license from Minnesota. His driving record for the last 3 years shows no crashes or convictions for moving violations in a CMV.

21. Richard L. McEwen

Mr. McEwen, 69, has been blind in his right eye since 1996 due to trauma. His visual acuity in the left eye is 20/30. Following an examination in 2005, his ophthalmologist noted, “I feel he has adequate function to safely continue commercial driving.” Mr. McEwen submitted that he has driven tractor-trailer combinations for 28 years, accumulating 5.6 million miles. He holds a Class A CDL from Oregon. His driving record for the last 3 years shows no crashes or convictions for moving violations in a CMV.

22. David McKinney

Mr. McKinney, 40, has been blind in his right eye since age 3 due to injury. His best-corrected visual acuity in the left eye is 20/15. Following an examination in 2005, his optometrist noted, “In my opinion, since this has been a life-long deficiency, you have made good adaptations, and your vision should be sufficient to operate cars and commercial trucks.” Mr. McKinney submitted that he has driven straight trucks for 7 years, accumulating 122,000 miles, and tractor-trailer combinations for 5 years, accumulating 62,000 miles. He holds a Class A CDL from Oregon. His driving record for the last 3 years shows no crashes and one conviction for a moving violation—speeding—in a CMV. He exceeded the speed limit by 11 mph.

23. Ralph L. Means

Mr. Means, 69, had a vascular occlusion in his right eye in 1996. His best-corrected visual acuity in the right eye is count fingers and in the left, 20/20. Following an examination in 2004, his optometrist noted, “It is my opinion that Mr. Means has sufficient vision to perform driving tasks required for operating a commercial vehicle.” Mr. Means submitted that he has driven straight trucks for 5 years, accumulating 160,000 miles, and tractor-trailer combinations for 45 years, accumulating 2.8 million miles. He holds a Class AM CDL from Pennsylvania. His driving record for the last 3 years shows no crashes or convictions for moving violations in a CMV.

24. Kevin L. Moody

Mr. Moody, 41, has macular scarring in his left eye due to an infection in 1992. The visual acuity in his right eye is 20/20 and in the left, 20/60. His optometrist examined him in 2005 and noted, “It is my medical opinion the applicant has sufficient vision to safely and efficiently perform the driving tasks required to operate a commercial vehicle.” Mr. Moody reported that he has driven straight trucks for 1 year, accumulating 1,000 miles, and tractor-trailer combinations for 18 years, accumulating 1.0 million miles. He holds a Class A CDL from Ohio. His driving record for the last 3 years shows no crashes and one conviction for a moving violation—speeding—in a CMV. He exceeded the speed limit by 10 mph.

25. Woody M. Moore

Mr. Moore, 25, is blind in his right eye due to retinoblastoma at age 2. The best-corrected visual acuity in his left eye is 20/20. His optometrist examined him in 2005 and certified, “In my professional opinion, Woody has sufficient vision to operate a commercial vehicle.” Mr. Moore reported that he has driven straight trucks for 3 years, accumulating 75,000 miles. He holds a Class D driver's license from Florida. His driving record for the last 3 years shows no crashes or convictions for moving violations in a CMV.

26. William G. Mote

Mr. Mote, 58, had a choroidal neovascularization in his left eye in 1998. His best-corrected visual acuity in the right eye is 20/15 and in the left, 20/80. Following an examination in 2004, his ophthalmologist noted, “It appears that he has sufficient vision to perform driving tasks required to operate a commercial vehicle.” Mr. Mote reported that he has driven straight trucks for 18 years, accumulating 1.0 million miles. He holds a Class D driver's license from Ohio. His driving record for the last 3 years shows no crashes or convictions for moving violations in a CMV.

27. Charles W. Mullenix

Mr. Mullenix, 61, sustained an injury to his left eye at age 11. His best-corrected visual acuity in the right eye is 20/20 and in the left, light perception. Following an examination in 2005, his optometrist noted, “In my opinion, Mr. Wayne Mullenix has sufficient vision to perform the driving tasks required to operate a commercial vehicle.” Mr. Mullenix reported that he has driven straight trucks and tractor-trailer combinations for 44 years, accumulating 440,000 miles in each. He holds a Class AM CDL from Georgia. His driving record for the last 3 years shows no crashes or convictions for moving violations in a CMV.

28. James R. Murphy

Mr. Murphy, 39, has amblyopia in his right eye. The best-corrected visual acuity in his right eye is 20/200 and in the left, 20/20. His optometrist examined him in 2005 and certified, “It is my medical opinion that Mr. Murphy is able to perform the driving tasks required to operate a commercial vehicle.” Mr. Murphy reported that he has driven straight trucks for 8 years, accumulating 8,000 miles, and tractor-trailer combinations for 21 years, accumulating 610,000 miles. He holds a Class A CDL from New York. His driving record for the last 3 years shows no crashes or convictions for moving violations in a CMV.

29. Kenneth R. Murphy

Mr. Murphy, 44, has a corneal scar in his left eye due to an injury at age 5. His visual acuity in the right eye is 20/20 and in the left, 20/60. Following an examination in 2004, his optometrist noted, “In my opinion, Ken is able to operate a commercial vehicle without any concerns or worries. His excellent peripheral vision in team use of his eyes gives me no concerns regarding the safe and efficient operation of a commercial vehicle.” Mr. Murphy reported that he has driven straight trucks for 9 years, accumulating 720,000 miles, and tractor-trailer combinations for 5 years, accumulating 161,000 miles. He holds a Class A CDL from the State of Washington. His driving record for the last 3 years shows no crashes or convictions for moving violations in a CMV.

30. Gary S. Partridge

Mr. Partridge, 54, lost the vision in his right eye due to an injury at age 10. The visual acuity in his left eye is 20/20. Following an examination in 2005, his optometrist stated, “In my professional medical opinion, Mr. Partridge's vision is stable and he has sufficient vision to perform driving tasks required to operate a commercial vehicle.” Mr. Partridge submitted that he has driven straight trucks for 2 years, accumulating 100,000 miles, and tractor-trailer combinations for 7 years, accumulating 700,000 miles. He holds a Class A CDL from Oregon. His driving record for the last 3 years shows no crashes or convictions for moving violations in a CMV.

31. Nathan (Nate) D. Peterson

Mr. Peterson, 27, is blind in his right eye due to trauma in 2001. The visual acuity in his left eye is 20/15. Following an examination in 2005, his ophthalmologist stated, “In my opinion, Nate has sufficient vision to perform the driving tasks required to operate a commercial vehicle.” Mr. Peterson submitted that he has driven straight trucks and tractor-trailer combinations for 4 years, accumulating 80,000 miles in the former and 120,000 miles in the latter. He holds a Class A CDL from Nebraska. His driving record for the last 3 years shows no crashes or convictions for moving violations in a CMV.

32. John N. Poland

Mr. Poland, 52, has amblyopia in his right eye. His best-corrected visual acuity in the right eye is 20/400 and in the left, 20/20. Following an examination in 2005, his optometrist noted, “John has been a professional truck driver his whole life. I do not feel his condition should impair his driving abilities in any way, shape, or form, since this condition is not new to him.” Mr. Poland reported that he has driven tractor-trailer combinations for 26 years, accumulating 1.8 million miles. He holds a Class A CDL from Illinois. His driving record for the last 3 years shows no crashes or convictions for moving violations in a CMV.

33. Neal A. Richard

Mr. Richard, 46, has amblyopia in his left eye. The best-corrected visual acuity in his right eye is 20/20 and in the left, 20/60. His optometrist examined him in 2004 and certified, “With glasses Neal Richard's vision is sufficient to perform driving tasks to operate a commercial vehicle.” Mr. Richard submitted that he has driven straight trucks for 6 years, accumulating 132,000 miles, and buses for 2 years, accumulating 1,200 miles. He holds a Class D chauffeur's license from Louisiana. His driving record for the last 3 years shows one crash and no convictions for moving violations in a CMV. According to the police report, Mr. Richard struck a vehicle after its driver was unable to stop at a stop sign due to defective brakes. Neither driver was cited in relation to the crash.

34. Chris A. Ritenour

Mr. Ritenour, 32, has amblyopia in his left eye. His best-corrected visual acuity in the right eye is 20/20 and in the left, 20/50. Following an examination in 2004, his optometrist noted, “To the best of my knowledge, I believe he has sufficient vision to perform the driving tasks required to operate a commercial vehicle.” Mr. Ritenour reported that he has driven straight trucks for 2 years, accumulating 60,000 miles, and tractor-trailer combinations for 7 years, accumulating 350,000 miles. He holds a Class CA CDL from Michigan. His driving record for the last 3 years shows no crashes or convictions for moving violations in a CMV.

35. Brent L. Seaux

Mr. Seaux, 33, experienced atrophy of his left eye due to trauma in 1996. His visual acuity in the right eye is 20/20 and in the left, 20/400. Following an examination in 2005, his ophthalmologist noted, “We have found that Mr. Seaux has sufficient vision to drive a commercial vehicle.” Mr. Seaux reported that he has driven tractor-trailer combinations for 11 years, accumulating 962,000 miles. He holds a Class D driver's license from Louisiana, but at the time of his application he held a Class A CDL. His driving record for the last 3 years shows no crashes and one conviction for a moving violation—speeding—in a CMV. He exceeded the speed limit by 18 mph.

36. Gerald M. Smith

Mr. Smith, 59, has amblyopia in his right eye. The best-corrected visual acuity in his right eye is 20/200 and in the left, 20/20. His ophthalmologist examined him in 2005 and certified, “That patient has sufficient vision to perform driving tasks required to operate a commercial vehicle.” Mr. Smith reported that he has driven tractor-trailer combinations for 8 years, accumulating 800,000 miles. He holds a chauffeur's license from Indiana. His driving record for the last 3 years shows no crashes or convictions for moving violations in a CMV.

37. James T. Smith

Mr. Smith, 60, lost the vision in his left eye due to a retinal detachment 11 years ago. The best-corrected visual acuity in his right eye is 20/20. His optometrist examined him in 2004 and noted, “I certify that this patient has sufficient vision to perform the driving tasks required to operate a commercial vehicle.” Mr. Smith submitted that he has driven straight trucks for 35 years, accumulating 35,000 miles, and tractor-trailer combinations for 15 years, accumulating 180,000 miles. He holds a Class A CDL from Colorado. His driving record for the last 3 years shows no crashes or convictions for moving violations in a CMV.

38. Nicholas J. Turpin

Mr. Turpin, 49, has amblyopia in his left eye. His best-corrected visual acuity in the right eye is 20/15 and in the left, 20/70. Following an examination in 2005, his optometrist noted, “Mr. Turpin has complete visual function for operation of a commercial vehicle.” Mr. Turpin reported that he has driven tractor-trailer combinations for 13 years, accumulating 1.3 million miles. He holds a Class A CDL from Texas. His driving record for the last 3 years shows no crashes or convictions for moving violations in a CMV.

39. Gary M. Wolff

Mr. Wolff, 54, has amblyopia in his right eye. The best-corrected visual acuity in his right eye is 20/100 and in the left, 20/20. Following an examination in 2004, his ophthalmologist noted, “In my medical opinion, Gary Wolff has sufficient vision to perform the driving tasks required to operate a commercial vehicle.” Mr. Wolff reported that he has driven tractor-trailer combinations for 15 years, accumulating 984,000 miles. He holds a Class AM CDL from Illinois. His driving record for the last 3 years shows no crashes or convictions for moving violations in a CMV.

40. George R. Zenor

Mr. Zenor, 63, experienced histoplasmosis in his right eye in 1986. The best-corrected visual acuity in his right eye is 20/200 and in the left, 20/15. His ophthalmologist examined him in 2005 and stated, “I see no contraindications from a visual standpoint to Mr. Zenor's ability to operate a commercial vehicle.” Mr. Zenor reported that he has driven straight trucks for 10 years, accumulating 350,000 miles, and tractor-trailer combinations for 35 years, accumulating 4.8 million miles. He holds a Class AM CDL from Iowa. His driving record for the last 3 years shows no crashes or convictions for moving violations in a CMV.

Request for Comments

In accordance with 49 U.S.C. 31315 and 31136(e), the FMCSA requests public comment from all interested persons on the exemption petitions described in this notice. We will consider all comments received before the close of business on the closing date indicated earlier in the notice.

Issued on: August 15, 2005.
Rose A. McMurray,
Associate Administrator, Policy and Program Development.

[FR Doc. 05-16461 Filed 8-18-05; 8:45 am]

BILLING CODE 4910-EX-P